DEPARTMENT OF ENERGY

Federal Energy Regulatory Commission

[Docket No. CP14-132-000]

Gulf Oil Limited Partnership; Notice of Petition for Declaratory Order

Take notice that on April 1, 2014, Gulf Oil Limited Partnership pursuant to section 207(a)(2) of the Federal Energy Regulatory Commission's (Commission) Rules of Practice and Procedure, 18 CFR 385.207 (2013) filed a Petition for Declaratory Order for the construction and operation of a liquefied natural gas (LNG) production facility which Gulf Oil plans to construct in northeastern Pennsylvania in order to convert natural gas produced in the Marcellus Shale play into LNG that will be marketed as vehicular fuel, high horsepower engine fuel, and as a source of supply for certain local distribution company peak shaving facilities will not be subject to the Commission's jurisdiction under Section 7 of the Natural Gas Act and will not make the owner or operator of that LNG facility a “natural-gas company” within the meaning of Section 1(b) of the NGA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 1, 2014.

Dated: April 8, 2014.
Nathaniel J. Davis, Sr.,
Deputy Secretary.

[FR Doc. 2014-08430 Filed 4-14-14; 8:45 am]

BILLING CODE 6717-01-P